DEPARTMENT OF COMMERCE

Public Scoping Meeting To Solicit Input for a Draft Environmental Impact Statement for the Proposed Connecticut National Estuarine Research Reserve National Oceanic and Atmospheric Administration

AGENCY: Office for Coastal Management (OCM), National Ocean Service (NOS), National Oceanic and Atmospheric Administration (NOAA), U.S. Department of Commerce.

ACTION: Notice of public scoping meeting.

SUMMARY: NOAA and the State of Connecticut (State) announce a public scoping meeting to solicit comments on significant issues related to the development of a Draft Environmental Impact Statement (DEIS) for the proposed Connecticut National Estuarine Research Reserve (NERR). The public scoping meeting will be held on Tuesday, August 4, 2020. Meeting details are provided below.

DATES: The meeting will be held on Tuesday, August 4, 2020, from 7 p.m. to 9 p.m. Eastern Daylight Time (EDT). Written comments provided electronically must be submitted no later than Tuesday, August 18, 2020; written comments submitted by mail must be postmarked by Tuesday, August 18, 2020.

ADDRESSES: The public scoping meeting will be conducted online via WebEx and by phone. Online participants should go to the following University of Connecticut website to get instructions for participating and attend the public scoping meeting: https://uconn-cmr.webex.com/uconn-cmr/onstage/g.php?t=a&d=1200263550. Meeting documents will be available on the Connecticut Department of Energy and Environmental Protection's NERR website: https://portal.ct.gov/DEEP/Coastal-Resources/NERR/NERR-Home-Page as well as on the Federal eRulemaking Portal: www.regulations.gov/docket?D=NOAA-NOS-2020-0089. You may also participate in the meeting by phone, by using the toll-free number +1 415-655-0002 and the attendee access code 120 026 3550. =-0(?. zritten comments may be submitted by:

• Electronic Submission: Submit all electronic public comments via the Federal eRulemaking Portal. Go to www.regulations.gov/docket?D=NOAA-NOS-2020-0089, click the “Comment Now!” button, complete the required fields, and enter or attach your comments. Written comments must be submitted no later than Tuesday, August 18, 2020.

• Mail: Submit written comments to Erica Seiden, Stewardship Division (N/OCM6), Office for Coastal Management, NOS, NOAA, 1305 East-West Highway, Silver Spring, Maryland 20910; ATTN: CT NERR. Comments must be postmarked no later than Tuesday, August 18, 2020.

Instructions: All comments received are part of the public record and will generally be posted for public viewing on www.regulations.gov/docket?D=NOAA-NOS-2020-0089 with no changes. All personally identifiable information (e.g., name, address, etc.), confidential business information, or otherwise sensitive information submitted voluntarily by the commenter will be publicly accessible and maintained by NOAA as part of the public record. NOAA will accept anonymous comments; on the eRulemaking Portal, enter “N/A” in the required fields if you wish to remain anonymous. If you would like to provide an anonymous comment during the public scoping meeting, type your comment into the question box, and state that you would like to remain anonymous when your comment is read. Multimedia submissions (i.e., audio, video, etc.) must be accompanied by a written comment. The written comment is considered the official comment and should include discussion of all points you wish to make. NOAA will generally not consider comments, or comment contents, located outside of the primary submission sites or addresses (i.e., those posted on the web, cloud, or other file-sharing system). Please note, no public comments will be audio or video recorded.

Closed captioning will be provided for those who attend the public meeting online via WebEx: https://uconn-cmr.webex.com/uconn-cmr/onstage/g.php?t=a&d=1200263550.

FOR FURTHER INFORMATION CONTACT: Erica Seiden, Office for Coastal Management, National Ocean Service, NOAA, 1305 East West Highway, N/OCM, Silver Spring, MD 20910; Phone: 240-533-0781; or Email: erica.seiden@noaa.gov.

SUPPLEMENTARY INFORMATION: In accordance with Section 315 of the Coastal Zone Management Act of 1972, as amended, and its implementing regulations (15 CFR part 921), and the National Environmental Policy Act of 1969, as amended (42 U.S.C. 4321), NOAA and the State intend to prepare a DEIS for the proposed Connecticut NERR. Early in the development of the DEIS, NOAA and the State are required to hold a scoping meeting to solicit public and government comments on significant issues related to this proposed action. (See 15 CFR 921.13(c).)

NOAA received the State's nomination of the proposed site on January 3, 2019. NOAA evaluated the nomination package and found that the proposed site met the NERR System requirements. (See 16 U.S.C. 1461(b).) NOAA informed the State on September 27, 2019, that it was accepting the nomination and that the next step would be to prepare a DEIS and Draft Management Plan (DMP). The DEIS will consider the human and environmental consequences of designating the State's recommended site and alternatives, as well as identify a final boundary. The DMP will set a course for operating the Connecticut NERR once approved and will include plans for administration, research, education, and facilities of the proposed site. (See 15 CFR 921.13.)

The proposed site consists of the following State-owned properties: Lord Cove Wildlife Management Area; Great Island Wildlife Management Area; Bluff Point State Park and Coastal Reserve and Natural Area Preserve; Haley Farm State Park; and public trust waters including portions of Long Island Sound, the lower Thames River, and the lower Connecticut River.

The proposed site resulted from a comprehensive evaluation process that sought the views of the public, affected landowners, and other interested parties. The State and NOAA held a public meeting on November 13, 2018, to solicit comments on the preferred site. (See 83 FR 54572.) A Federal Register notice was published on June 1, 2020, to announce the “Intent to Prepare a DEIS and DMP for the Proposed CT NERR.” (See 85 FR 33123.) For more detailed information on the site selection process and the proposed site, see the Connecticut Department of Energy and Environmental Protection's NERR website: https://portal.ct.gov/DEEP/Coastal-Resources/NERR/NERR-Home-Page.

Jeffrey L. Payne,
Director, Office for Coastal Management, National Ocean Service, National Oceanic and Atmospheric Administration.

[FR Doc. 2020-15428 Filed 7-16-20; 8:45 am]

BILLING CODE 3510-JE-P